DEPARTMENT OF HOMELAND SECURITY

Coast Guard

[Docket No. USCG-2014-0328]

National Offshore Safety Advisory Committee; Vacancies

AGENCY: United States Coast Guard, DHS.

ACTION: Request for applications.

SUMMARY: The Coast Guard seeks applications for membership on the National Offshore Safety Advisory Committee (NOSAC). NOSAC advises the Secretary of the Department of Homeland Security (DHS) on matters and actions concerning activities directly involved with or in support of the exploration of offshore mineral and energy resources insofar as they relate to matters within Coast Guard jurisdiction.

DATES: Applicants for NOSAC membership should submit a cover letter and resume in time to reach the Alternate Designated Federal Officer (ADFO) on or before July 14, 2014.

ADDRESSES: Send your cover letter and resume via one of the following methods:

• By mail: Alternate Designated Federal Official (ADFO) of NOSAC, Commandant, (CG-OES-2)/NOSAC U.S. Coast Guard, 2703 Martin Luther King Jr. Avenue SE., STOP 7509, Washington, DC 20593-7509; or

• By fax to (202) 372-8382; or

• By email to Scott.E.Hartley@uscg.mil.

FOR FURTHER INFORMATION CONTACT: Mr. Scott E. Hartley, ADFO of NOSAC; telephone (202) 372-1437; fax (202) 372-8382; email Scott.E.Hartley@uscg.mil.

SUPPLEMENTARY INFORMATION: NOSAC is governed by the Federal Advisory Committee Act (FACA), 5 U.S.C. Appendix, Public Law 92-463 86 Stat. 770 as amended and was established under the authority of Title 6 U.S.C. 451 to advise the Secretary of DHS on matters and actions concerning activities directly involved with or in support of the exploration of offshore mineral and energy resources insofar as they relate to matters within Coast Guard jurisdiction.

The Committee expects to meet twice a year: April in New Orleans, LA, and November in Houston, TX.

We will consider applications for the five positions listed below that will become vacant on January 31, 2015:

(a) One member representing companies, organizations, enterprises or similar entities engaged in the production of petroleum;

(b) One member representing companies, organizations, enterprises or similar entities engaged in offshore drilling;

(c) One member representing companies, organizations, enterprises or similar entities engaged in the support, by offshore supply vessels or other vessels, of offshore operations;

(d) One member representing companies, organizations, enterprises or similar entities engaged in the construction of offshore facilities; and

(e) One member representing companies, organizations, enterprises or similar entities engaged in offshore operations with recent practical experience on vessels or units involved in the offshore industry.

To be eligible, applicants for vacant positions should be employed by companies, organizations, enterprises or similar entities, have expertise, knowledge and experience regarding the technology, equipment and techniques that are used or are being developed for use in the exploration for, and the recovery of, offshore mineral resources.

Registered lobbyists are not eligible to serve on federal advisory committees. Registered lobbyists are lobbyists required to comply with provisions contained in the Lobbying Disclosure Act of 1995 (Pub. L. 104-65, as amended).

Each NOSAC member serves a term of office up to three (3) years. Members may be considered to serve a maximum of three consecutive terms. All members serve at their own expense and receive no salary or reimbursement of travel expenses, or other compensation from the Federal Government.

The Department of Homeland Security (DHS) does not discriminate in selection of Committee members on the basis of race, color, religion, sex, national origin, political affiliation, sexual orientation, gender identity, marital status, disabilities and genetic information, age, membership in an employee organization, or any other non-merit factor. DHS strives to achieve a widely diverse candidate pool for all of its recruitment actions.

If you are interested in applying to become a member of NOSAC, send a cover letter stating the position you wish to represent, providing your expertise, knowledge and experience that qualifies you for service on NOSAC to Mr. Scott Hartley, ADFO for NOSAC by email or mail according to the instructions in the ADDRESSES section by the deadline in the DATES section of this notice. In addition, please include a Curriculum Vitae (CV) or resume containing your current home address, a current email address, a current telephone number, your qualifications and work experience. During the vetting process, applicants may be asked by the White House Liaison Office through the United States Coast Guard to provide their date of birth and social security number. All email submittals will receive email receipt confirmation.

To visit our online docket, go to http://www.regulations.gov, enter the docket number for this notice (USCG-2014-0328) in the Search box, and click “Search”. Please do not post your resume on this site.

Dated: May 8, 2014.
J.G. Lantz,
Director of Commercial Regulations and Standards.

[FR Doc. 2014-10977 Filed 5-13-14; 8:45 am]

BILLING CODE 9110-04-P